FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201351.

Agreement Name: Foundation Carrier Agreement.

Parties: CMA CGM S.A.; Maersk A/S; and MSC Mediterranean Shipping Company S.A.

Filing Party: Wayne Rohde; Cozen O'Connor.

Synopsis: The Agreement authorizes the parties (in cooperation with the providers of the TradeLens platform) to form a Foundation Council, provides for the composition of that Council, and sets forth the matters that require approval of, or consultation with, the Foundation Council. In addition, the Agreement sets forth the information that is to be provided to the TradeLens platform by the carrier parties, and details understandings relating to the use of, access to, and confidentiality of such data. It also sets forth understandings relating to the marketing of the platform.

Proposed Effective Date: 12/13/2020.

Location: https://www2.fmc.gov/FMC.Agreements.Web/Public/AgreementHistory/36502.

Dated: October 30, 2020.
Rachel Dickon,
Secretary.

[FR Doc. 2020-24418 Filed 11-3-20; 8:45 am]

BILLING CODE 6730-02-P